DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 23, 2017.

ADDRESS COMMENTS TO: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on December 8, 2016.
Donald Burger,
Chief, Office of the Special Permits and Approvals.

Application No. | Docket No. | Applicant | Regulation(s) affected | Nature of the special permits thereof
Special Permits Data
11110-M |  | United Parcel Service, Co. | 171.8, 175.75 | To modify the special permit to authorize certain Class 8 hazardous materials which have no assigned packing group to be transported under the terms of the special permit.
11536-M |  | Boeing Co. | 102, 185, 202, 211, 304A, 62 | To modify the special permit to authorize an additional three part spacecraft shipping container, to authorize the transportation of lithium batteries which exceed the 35 kg weight limitation, and to authorize the transportation of anhydrous ammonia by cargo aircraft.
12102-M |  | Veolia ES Technical Solutions LLC | 173.56(b) | To modify the special permit to authorize an additional 4.1 material to be transported using the special permit.
14578-M |  | Nantong CIMC Tank Equipment Co., LTD |  | To modify the special permit to authorize an increase in the tank capacity and to remove references to the ASME code which are no longer valid.
16060-M |  | Dae Ryuk Can Co., LTD. | 173.304a(d)(3)(ii) | To modify the special permit to authorize an additional smaller container.
16081-M |  | Cabela's Incorporated | 178.602 | To modify the special permit to authorize additional Division 1.4 materials, and no longer require a copy of the special permit must be furnished to the carrier.
20237-N |  | DSM Nutritional Products, Inc | 172.500(a), 107.601(a) | To authorize the transportation in commerce of bulk packagings containing Division 4.2 materials without displaying placards.
20258-N |  | Winco Fireworks | 173.62(c), 172.301(c) | To authorize the one-way transportation in commerce of Division 1.4G consumer fireworks in non-DOT specification fiberboard non-bulk out packagings under the terms and conditions specified when transported by private, contract or common carrier.
20273-N |  | ATK Launch Systems, Inc | 173.56(a), 172.320 | To authorize the one-time, one-way transportation of blasting caps that have not been issued an EX approval.
20274-N |  | SDV (USA) Inc | 172.400, 172.400, 172.300, 172.301 | To authorize the transportation in commerce of certain non-DOT specification containers containing certain Division 2.1, 2.2, 2.3 liquefied and compressed gases and other hazardous materials for use in specialty cooling applications such as satellites and military aircraft.
20283-N |  | LG Chem | 172.101(j), 172.101(j)(1), 172.101(j)(2), 172.101(j)(3), 172.101(j)(4), 172.101(j)(5) | To authorize the transportation in commerce of lithium ion batteries exceeding the 35 Kg maximum weight authorized for transportation by cargo aircraft.
20286-N |  | National Air Cargo Group, Inc | 173.27(b)(2), 173.27(b)(3), 172.204(c)(3), 175.30(a)(1) | To authorize the transportation in commerce by air of certain explosives which are forbidden to be transported by aircraft.
20290-N |  | LG Chem | 172.101(j) | To authorize the transportation of lithium ion batteries exceed the 35 kg weight limitation on cargo aircraft.
20292-N |  | Nuance Systems LLC | 173.181, 173.302(a), 173.187, 173.201, 173.211 | To authorize the manufacture, marking sale and use of a non specification cylinder used to transport pyrophoric materials in a steel cylinder constructed like a 48 cylinder except as follows: Cylinder head with openings may be attached by bolts and gasket. The cylinder may be constructed without a longitudinal seam. Chemical analysis and mechanical tests of a foreign made material of construction may be performed outside of the United States without further retest when tests results are reviewed by a competent inspector of the U.S. manufacturer and found to meet mechanical and chemical requirements for a specified material of construction.
20295-M |  | Assured Waste Solutions, LLC |  | To modify the special permit to change it from an emergency to permanent authorizing the transportation in commerce of certain Drug Enforcement Agency materials for the purpose of disposal.
20312-N |  | S.C. Johnson & Son, Inc | 173.306(a)(5)(v), 173.306(a)(5)(vi) | To authorize the transportation in commerce of DOT Specification 25 and non-DOT specification plastic non-refillable inside containers, which are leak tested by an automated in-line pressure check in lieu of the tests specified in the Hazardous Materials Regulations.
20318-N |  | Texas Quality Chemicals Inc | 105.5(b)(3) | SP12412 Toluene, THPS, IPA, Methanol.
20319-N |  | Texas Quality Chemicals Inc | 105.5(b)(3) | SP11646
20347-N |  | National Air Cargo Group, Inc | 173.27(b)(2), 173.27(b)(3), 175.30(a), 175.30(a)(1), 172.101, 172.204, 172.204(c)(3) | To authorize the transportation in commerce of certain explosives exceeding the quantity limits authorize for cargo-only aircraft.
20360-N |  | Scotts Helicopter Service Inc | 173.27(b)(2), 175.30, 175.75, 172.101(j), 172.200, 172.204(c)(3), 172.301(c) | To authorize the transportation in commerce of certain hazardous materials by 14 CFR part 133 Rotocraft External Load Operations transporting hazardous materials attached to or suspended from an aircraft, in remote areas of the U.S. only, without being subject to hazard communication requirements, quantity limitations, and certain loading and stowage requirements.
20363-N |  | Savings Starfish, Ltd | 173.154, 173.155 | To authorize the transportation in commerce of chemical kit supplies in alternative packaging.
20368-N |  | Kalitta Air, L.L.C | 173.27(b)(2), 173.27(b)(3), 175.30(a)(1) | To authorize the transportation in commerce of certain explosives that are forbidden for transportation by cargo-only aircraft.

[FR Doc. 2016-30573 Filed 12-21-16; 8:45 am]

BILLING CODE 4909-60-M